INTERNATIONAL TRADE COMMISSION

[Investigation 332-325]

The Economic Effects of Significant U.S. Import Restraints: Fourth Update

AGENCY: United States International Trade Commission.

ACTION: Cancellation of public hearing.

EFFECTIVE DATE: December 3, 2003.

SUMMARY: On November 28, 2003, the Commission received notice that the only scheduled witnesses for the hearing scheduled for December 9, 2003, in this matter have elected to have their written submission serve as a substitute for their oral statement. Therefore, the public hearing in connection with this investigation, scheduled to be held beginning at 9:30 am on December 9, 2003, at the U.S. International Trade Commission Building, 500 E Street, SW., Washington, DC, is canceled. Notice of institution of this investigation and the scheduling of the hearing was published in the Federal Register of August 21, 2003 (68 FR 50553). To be assured of consideration by the Commission, written statements relating to the Commission's report should be submitted at the earliest practical date and should be received not later than COB January 10, 2004. All submissions should be addressed to the Secretary, United States International Trade Commission, 500 E Street, SW., Washington, DC 20436. The Commission's rules do not authorize filing submissions with the Secretary by facsimile or electronic means, except to the extent permitted by section 201.8 of the Commission's Rules (19CFR201.8) (see Handbook for Electronic Filing Procedures, ftp://ftp.usitc.gov/pub/reports/electronic_filing_handbook.pdf).

FOR FURTHER INFORMATION CONTACT: Soamiely Andriamananjara, Project Leader (202-205-3252) or Marinos Tsigas, Deputy Project Leader (202-708-3654), Office of Economics, U.S. International Trade Commission, Washington, DC 20436. For information on the legal aspects of this investigation, contact William Gearhart of the Office of the General Counsel (202-205-2091). Hearing impaired individuals are advised that information on this matter can be obtained by contacting the TDD terminal on (202-205-1810). Persons with mobility impairments who will need special assistance in gaining access to the Commission should contact the Office of the Secretary at 202-205-2000.

List of Subjects

U.S. Import Restraints, Nontariff measures (NTM), Tariffs, Imports.

By Order of the Commission.
Issued: December 3, 2003.
Marilyn R. Abbott,
Secretary.

[FR Doc. 03-30443 Filed 12-8-03; 8:45 am]

BILLING CODE 7020-02-P